DEPARTMENT OF JUSTICE

Notice of Lodging of Proposed Consent Decree Under the Clean Air Act, Clean Water Act, Resource Conservation and Recovery Act, Toxic Substances Control Act, and Emergency Planning and Community Right-To-Know Act

On September 1, 2015, the Department of Justice lodged a proposed Consent Decree with the United States District Court for the Northern District of Alabama in the lawsuit entitled United States and the Alabama Department of Environmental Management v. McWane, Inc., Civil Action No. cv-15-JHE-1504-S.

In this action, the United States seeks civil penalties for violations of the Clean Air Act, Clean Water Act, Resource Conservation and Recovery Act, Toxic Substances Control Act, and the reporting requirements of the Emergency Planning and Community Right-to-Know Act, together with their implementing regulations and permits, at two of McWane's facilities, one in Birmingham, Alabama and one in Phillipsburg, New Jersey. McWane is a national company that operates iron foundries, brass foundries, and various valve and tank manufacturing facilities. The Alabama Department of Environmental Management is a co-plaintiff in this action.

Under the proposed Consent Decree, McWane will pay a total civil penalty of $471,031, of which $341,383 will go to the United States Treasury, $2,782 to the Oil Spill Liability Trust Fund to resolve alleged violations relating to its spill prevention program, and $126,866 to the State of Alabama. McWane will also implement a Supplemental Environmental Project, at an estimated cost of $2,500,000. McWane has already undertaken corrective measures to resolve all historical violations alleged in the Complaint, at an estimated cost of over $10 million. The proposed Consent Decree resolves only the specific violations alleged in the Complaint.

The publication of this notice opens a period for public comment on the Consent Decree. Comments should be addressed to the Assistant Attorney General, Environment and Natural Resources Division, and should refer to United States and the Alabama Department of Environmental Protection v. McWane, Inc., D.J. Ref. No. 90-5-1-1-08282/5. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.25 (25 cents per page reproduction cost) payable to the United States Treasury.

Randall M. Stone,
Acting Assistant Section Chief, Environmental Enforcement Section, Environment and Natural Resources Division.

[FR Doc. 2015-22531 Filed 9-4-15; 8:45 am]

BILLING CODE 4410-15-P